DEPARTMENT OF EDUCATION

A National Dialogue: The Secretary of Education's Commission on the Future of Higher Education

AGENCY: A National Dialogue: The Secretary of Education's Commission on the Future of Higher Education, Department of Education.

ACTION: Notice of public hearing.

SUMMARY: This notice sets forth the schedule and proposed agenda of an upcoming public hearing with members of A National Dialogue: The Secretary of Education's Commission on the Future of Higher Education (Commission). Notice of this meeting is required by section 10(a)(2) of the Federal Advisory Committee Act and is intended to notify the public of their opportunity to attend.

DATES: Monday, March 20, 2006; 9 a.m. to 4 p.m.

ADDRESSES: The public hearing will be held in Boston, MA, at the Fairmont Copley Plaza, 138 St. James Avenue, Boston, MA.

FOR FURTHER INFORMATION CONTACT: Cheryl Oldham, Executive Director, A National Dialogue: The Secretary of Education's Commission on the Future of Higher Education, 400 Maryland Avenue, SW., Washington, DC 20202-3510; telephone: (202) 205-8741.

SUPPLEMENTARY INFORMATION: The Commission is established by the Secretary of Education to begin a national dialogue about the future of higher education in this country. The purpose of this Commission is to consider how best to improve our system of higher education to ensure that our graduates are well prepared to meet our future workforce needs and are able to participate fully in the changing economy. The Commission shall consider Federal, State, local and institutional roles in higher education an analyze whether the current goals of higher education are appropriate and achievable. The Commission will also focus on the increasing tuition costs and the perception of many families, particularly low-income families, that higher education is inaccessible.

The agenda for this public hearing will begin with presentations from panels of invited speakers addressing the four areas of focus for the Commission: access, accountability, affordability, and quality. After the presentations by invited speakers, there will be time reserved for comments from the public.

If you are interested in participating in the public comment period to present comments to the Commission, you are requested to reserve time on the agenda of the meeting by e-mail or phone. Please include your name, the organization you represent if appropriate, and a brief description of the issue you would like to present. participants will be allowed approximately three to five minutes to present their comments, depending on the number of individuals who reserve time on the agenda. At the meeting, participants are also encouraged to submit four written copies of their comments. Persons interested in making comments are encouraged to address the following issues and questions:

(1) How accessible is higher education today? Is this changing?

(2) Do students have access to the institutions best suited to their needs and abilities?

(3) What is the real cost of educating college students? How fast is it rising?

(4) What is the true price of a college education?

(5) What is the quality of higher education in America?

(6) How well are universities meeting specific national needs?

Given the expected number of individuals interested in providing comments at the meeting, reservations for presenting comments should be made as soon as possible. Persons who are unable to obtain reservations to speak during the meeting are encouraged to submit written comments. Written comments will be accepted at the meeting site or may be mailed to the Commission at the address listed above.

Individuals who will need accommodations for a disability in order to attend the meeting (e.g., interpreting services, assistive listening devices, or materials in alternative format) should notify Carrie Marsh at (202) 205-8741 no later than March 3, 2006. We will attempt to meet requests for accommodations after this date but cannot guarantee their availability. The meeting site is accessible to individuals with disabilities.

Individuals interested in attending the meeting must register in advance because of limited space issues. Please contact Carrie Marsh at (202) 205-8741 or by e-mail at Carrie.Marsh@ed.gov.

Opportunities for public comment are available through the Commission's Web site at http://www.ed.gov/about/bdscomm/list/hiedfuture/index.html. Records are kept of all Commission proceedings and are available for public inspection at the staff office for the Commission from the hours of 9 a.m. to 5 p.m.

Dated: February 13, 2006.
Margaret Spellings,
Secretary, U.S. Department of Education.

[FR Doc. 06-1534 Filed 2-17-06; 8:45 am]

BILLING CODE 4000-01-M